ENVIRONMENTAL PROTECTION AGENCY

40 CFR Part 300

[EPA-HQ-SFUND-2006-0759; FRL-9997-46-Region 5]

National Oil and Hazardous Substances Pollution Contingency Plan; National Priorities List: Partial Deletion of the South Minneapolis Residential Soil Contamination Superfund Site

AGENCY: Environmental Protection Agency (EPA).

ACTION: Proposed rule; notification of intent.

SUMMARY: The Environmental Protection Agency (EPA) Region 5 is issuing a Notice of Intent to Delete all but nine of approximately 3,632 properties located within the South Minneapolis Residential Soil Contamination Superfund Site (South Minn. Site) in Minneapolis, Minnesota from the National Priorities List (NPL) and requests public comments on this proposed action. The NPL, promulgated pursuant to Section 105 of the Comprehensive Environmental Response, Compensation, and Liability Act (CERCLA) of 1980, as amended, is an appendix of the National Oil and Hazardous Substances Pollution Contingency Plan (NCP). The EPA and the State of Minnesota, through the Minnesota Department of Agriculture (MDA), have determined that all appropriate response actions identified for these properties have been completed. However, this deletion does not preclude future actions under Superfund.

DATES: Comments must be received by August 30, 2019.

ADDRESSES: Submit your comments, identified by Docket ID no. EPA-HQ-SFUND-2006-0759, by mail to Randolph Cano, NPL Deletion Coordinator, U.S. Environmental Protection Agency Region 5 (ST-6J), 77 West Jackson Boulevard, Chicago, IL 60604. Comments may also be submitted electronically or through hand delivery/courier by following the detailed instructions in the ADDRESSES section of the direct final rule located in the “Rules and Regulations” section of this issue of the Federal Register.

FOR FURTHER INFORMATION CONTACT: Randolph Cano, NPL Deletion Coordinator, U.S. Environmental Protection Agency Region 5 (ST-6J), 77 West Jackson Boulevard, Chicago, IL 60604, (312) 886-6036, or via email at cano.randolph@epa.gov.

SUPPLEMENTARY INFORMATION: This partial deletion pertains to all residential properties, parks, schools, playgrounds associated with church schools and a cemetery located within an approximate three-quarter mile radius of the CMC Heartland Lite Yard State Superfund Cleanup Site (the area known as the South Minn. Site), excluding the nine properties identified in Table 1 in the Docket that still require sampling and/or remediation. The nine properties identified in Table 1 in the Docket will remain on the NPL and are not being considered for deletion as part of this action.

In the “Rules and Regulations” Section of this issue of the Federal Register, we are publishing a direct final Notice of Partial Deletion of the South Minn. Site without prior Notice of Intent for Partial Deletion because EPA views this as a noncontroversial revision and anticipates no adverse comment. We have explained our reasons for this deletion in the preamble to the direct final Notice of Partial Deletion, and those reasons are incorporated herein. If we receive no adverse comment(s) on this partial deletion action, we will not take further action on this Notice of Intent for Partial Deletion. If we receive adverse comment(s), we will withdraw the direct final Notice of Partial Deletion, and it will not take effect. We will, as appropriate, address all public comments in a subsequent final Notice of Partial Deletion based on this Notice of Intent for Partial Deletion. We will not institute a second comment period on this Notice of Intent for Partial Deletion. Any parties interested in commenting must do so at this time.

For additional information, see the direct final Notice of Partial Deletion which is located in the “Rules and Regulations” section of this Federal Register.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(d); 42 U.S.C. 9601-9675; E.O. 13626, 77 FR 56749, 3 CFR, 2013 Comp., p. 306; E.O. 12777, 56 FR 54757, 3 CFR, 1991 Comp., p. 351; E.O. 12580, 52 FR 2923, 3 CFR, 1987 Comp., p. 193.

Dated: July 19, 2019.
Cheryl Newton,
Acting Regional Administrator, Region 5.

[FR Doc. 2019-16191 Filed 7-30-19; 8:45 am]

BILLING CODE 6560-50-P